DEPARTMENT OF JUSTICE

Notice of Lodging of Settlement Agreement Under the Comprehensive Environmental Response, Compensation, and Liability Act

Notice is hereby given that on March 30, 2010, a proposed Settlement Agreement in the bankruptcy matter, In re Lyondell Chemical Company, et al., Jointly Administered Case No. 09-10023 (REG), was lodged with the United States Bankruptcy Court for the Southern District of New York. The Settlement Agreement relates to alleged environmental liabilities of debtor Lyondell Chemical Company and 93 of its affiliates (collectively, the “Lyondell Debtors”).

The Settlement Agreement resolves claims of the Environmental Protection Agency (“EPA”) against certain Lyondell Debtors for response costs under the Comprehensive Environmental Response, Compensation, and Liability Act (“CERCLA”), 42 U.S.C. 9601-9675, with respect to the following sites: (1) The 68th Street Dump Site located in Maryland; (2) the Allied Paper/Portage Creek/Kalamazoo River Site located in Michigan; (3) the Barefoot Disposal Site located in Pennsylvania; (4) the Berks Landfill Site located in Pennsylvania; (5) the Chief Supply Site located in Oklahoma; (6) the Clinton Dock Area Site located in Iowa; (7) the Diamond Alkali/Lower Passaic River Study Area Site located in New Jersey; (8) the French Limited Site located in Texas; (9) the Hegeler Zinc Site located in Illinois; (10) the Malone Service Site located in Texas; (11) the Many Diversified Interests Site located in Texas; (12) the Omega Chemical Corporation Site located in California; and (13) the San Fernando Valley Site located in California.

The Settlement Agreement further settles EPA's claims against certain Lyondell Debtors for: (1) Civil penalties under the Resource Conservation and Recovery Act (“RCRA”), 42 U.S.C. 6901-6992k, with respect to the Brunswick Facility located in Georgia; (2) civil penalties under the Clean Air Act, 42 U.S.C. 7401-7671q, with respect to the Houston Refinery located in Texas; and (3) stipulated penalties under CERCLA Administrative Orders on Consent with respect to the Allied Paper/Portage Creek/Kalamazoo River Site and the Chief Supply Site.

The Settlement Agreement also resolves claims of the Department of the Interior (“DOI”) and the National Oceanic and Atmospheric Administration (“NOAA”) against certain Lyondell Debtors for natural resource damages and related assessment costs with respect to the following sites: (1) The Allied Paper/Portage Creek/Kalamazoo River Site; (2) the Diamond Alkali/Lower Passaic River Study Area Site; and (3) the Hegeler Zinc Site.

Under the Settlement Agreement, EPA, DOI, and NOAA collectively will receive allowed general unsecured claims in the bankruptcy totaling $1,135,895,990.

The United States will also receive a cash payment of $53,628,150, which will be applied to the following six sites: (1) The 68th Street Dump Site; (2) the Allied Paper/Portage Creek/Kalamazoo River Site; (3) the Barefoot Disposal Site; (4) the Berks Landfill Site; (5) the Diamond Alkali/Lower Passaic River Study Area Site; and (6) the French Limited Site.

Pursuant to the Settlement Agreement, the United States may seek to recover response costs and natural resource damages with respect to approximately 380 additional non-debtor-owned sites, and such costs and damages will be treated as general unsecured claims under the Lyondell Debtors' Plan of Reorganization. The United States may pursue injunctive relief against the Lyondell Debtors under RCRA Section 7003 with respect to nine of the approximately 380 sites, but may not otherwise seek injunctive relief under CERCLA Section 106 or RCRA Section 7003 against the Lyondell Debtors with respect to those sites.

Finally, pursuant to the Settlement Agreement and a Custodial Trust Agreement, certain Lyondell Debtors will transfer title to nine debtor-owned real properties to a custodial trust and contribute approximately $108.4 million to the trust to fund cleanups of these properties and administrative expenses of the trust. The nine custodial trust properties are: (1) The Allied Paper Mill located in Michigan; (2) the Beaver Valley property located in Pennsylvania; (3) the Bully Hill Mine located in California; (4) the Charlotte property located in North Carolina; (5) the Excelsior Mine located in California; (6) the Gypsum Pile property located in Illinois; (7) the Rising Star Mine located in California; (8) the Saint Helena property located in Maryland; and (9) the Turtle Bayou property located in Texas.

The Department of Justice will receive, for a period of fifteen days from the date of this publication, comments relating to the Settlement Agreement. To be considered, comments must be received by the Department of Justice by the date that is fifteen days from the date of this publication. Comments should be addressed to the Assistant Attorney General, Environment and Natural Resources Division, and either e-mailed to pubcomment-ees.enrd@usdoj.gov or mailed to P.O. Box 7611, U.S. Department of Justice, Washington, DC 20044-7611, and should refer to In re Lyondell Chemical Company, et al., D.J. Ref. 90-5-2-1-2132/3. Commenters may request an opportunity for a public meeting in the affected area, in accordance with Section 7003(d) of RCRA, 42 U.S.C. 6973(d).

The Settlement Agreement and the Custodial Trust Agreement may be examined at the Office of the United States Attorney, 86 Chambers Street, 3rd Floor, New York, New York 10007, and at the U.S. Environmental Protection Agency, Ariel Rios Building, 1200 Pennsylvania Avenue, NW., Washington, DC 20460. During the public comment period, the Settlement Agreement and the Custodial Trust Agreement may also be examined on the following Department of Justice Web site, http://www.usdoj.gov/enrd/Consent_Decrees.html. Copies of the Settlement Agreement and the Custodial Trust Agreement may also be obtained by mail from the Consent Decree Library, P.O. Box 7611, U.S. Department of Justice, Washington, DC 20044-7611 or by faxing or e-mailing a request to Tonia Fleetwood (tonia.fleetwood@usdoj.gov), fax No. (202) 514-0097, phone confirmation number (202) 514-1547. In requesting a copy from the Consent Decree Library, please enclose a check in the amount of $55.00 (with exhibits) or $29.75 (without exhibits) (25 cents per page reproduction cost) payable to the U.S. Treasury or, if by e-mail or fax, please forward a check in that amount to the Consent Decree Library at the stated address.

Maureen Katz,
Assistant Section Chief, Environmental Enforcement Section, Environment and Natural Resources Division.

[FR Doc. 2010-7769 Filed 4-2-10; 8:45 am]

BILLING CODE 4410-15-P